DEPARTMENT OF THE TREASURY

Submission for OMB Review; Comment Request

March 28, 2016.

The Department of the Treasury will submit the following information collection requests to the Office of Management and Budget (OMB) for review and clearance in accordance with the Paperwork Reduction Act of 1995, Public Law 104-13, on or after the date of publication of this notice.

DATES: Comments should be received on or before May 2, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Bureau of the Fiscal Service

OMB Control Number: 1530-0024.

Type of Review: Revision of a currently approved collection.

Title: Request for Payment of Reissue of U.S. Savings Bonds Deposited in Safekeeping.

Abstract: The information is necessary to request payment or reissue of Savings Bonds/Notes held in safekeeping when original safekeeping custody receipts are not available. The information on the form is used by the Department of the Treasury, Bureau of the Fiscal Service, to identify the securities involved, establish entitlement, and to obtain a certified request for payment or reissue. Without the information, the transaction cannot be completed.

Estimated Total Annual Burden Hours: 233.

OMB Control Number: 1530-0044.

Type of Review: Extension of a currently approved collection.

Title: Regulations Governing United States Treasury Certificates of Indebtedness—State and Local Government Series, United States Treasury Notes—State and Local Government Series, and United States Treasury Bonds—State and Local Government Series.

Abstract: The information is requested to establish consideration for a waiver of regulations.

Estimated Total Annual Burden Hours: 434.

OMB Control Number: 1530-0048. (Previously approved as 1535-0098 as a collection conducted by Department of the Treasury/Bureau of the Public Debt.)

Type of Review: Extension of a previously approved collection.

Title: Claim for United States Savings Bonds Not Received.

Abstract: The information collection is used to support a request for relief on account of the nonreceipt of United States Savings Bonds.

Estimated Total Annual Burden Hours: 2,500.

Brenda Simms,
Treasury PRA Clearance Officer.

[FR Doc. 2016-07296 Filed 3-30-16; 8:45 am]

BILLING CODE 4810-AS-P